DEPARTMENT OF THE INTERIOR

Bureau of Land Management

[18X LLAK980600.L1820000.XX0000.LXSIARAC0000]

Notice of Public Meeting, BLM Alaska Resource Advisory Council

AGENCY: Bureau of Land Management, Interior.

ACTION: Notice of Public Meeting.

SUMMARY: In accordance with the Federal Land Policy and Management Act of 1976, and the Federal Advisory Committee Act of 1972, the U.S. Department of the Interior, Bureau of Land Management (BLM) Alaska Resource Advisory Council (RAC) will meet as indicated below.

DATES: The BLM Alaska RAC will hold a public meeting Tuesday, August 14, 2018, from 9 a.m. until 4:30 p.m., and Wednesday, August 15, 2018, from 9 a.m. until 4:30 p.m. Public comment periods will be Tuesday from 11:30 a.m. until noon and Wednesday from 3 p.m. until 3:30 p.m.

ADDRESSES: The meeting will take place in Conference Room 104 at the Robert B. Atwood Building, 550 W 7th Ave., Anchorage, Alaska. The meeting agenda will be posted online by August 1, 2018, at www.blm.gov/site-page/get-involved-resource-advisory-council/near-you/alaska/rac.

FOR FURTHER INFORMATION CONTACT: Lesli Ellis-Wouters, Communications Director, BLM Alaska State Office, 222 W 7th Avenue #13, Anchorage, AK 99513; lellis@blm.gov; 907-271-4418. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member BLM Alaska RAC was chartered to provide advice to the BLM and the Secretary of the Interior on a variety of planning and management issues associated with public land management in Alaska. All RAC meetings are open to the public.

The agenda will include updates on National Environmental Policy Act (NEPA) projects, including the Greater Mooses Tooth 2 Development, proposed Willow Master Development Plan, Red Devil, and the proposed road to the Ambler Mining District. There will be updates on current BLM Alaska planning efforts, such as the Bering Sea-Western Interior and Central Yukon Resource Management Plans, and the Haines and Squirrel River Plans. There will also be reports from RAC subcommittees on placer mining, recreation, trapper cabins, and Alaska Native Claims Settlement Act issues. Discussions will include the BLM's NEPA streamlining and prioritization process, as well as how the BLM works with other federal and state agencies, tribes, and interested parties in preparing NEPA analysis. The three BLM Alaska Districts and the Alaska Fire Service will present overviews of activities occurring in the Field Offices and workload priorities.

During the public comment period, depending upon the number of people wishing to comment, time for individual oral comments may be limited. Please be prepared to submit written comments. If you have information to distribute to the RAC, please do so prior to the start of the meeting.

You can submit written comments by email to BLM_AK_Communications@blm.gov. Before including your address, phone number, email address, or other personal identifying information in your comment, you should be aware that your entire comment—including your personal identifying information—may be made publicly available at any time. While you can ask us in your comment to withhold your personal identifying information from public review, we cannot guarantee that we will be able to do so.

Authority: 43 CFR 1784.4-2.

Karen E. Mouritsen,
Acting State Director, Alaska.

[FR Doc. 2018-15447 Filed 7-18-18; 8:45 am]

BILLING CODE 4310-JA-P